ENVIRONMENTAL PROTECTION AGENCY

[FRL-7097-6]

Agency Information Collection Activities: Proposed Collection; Comment Request; Protection of Stratospheric Ozone—Recordkeeping and Periodic Reporting of the Production Import, Export, Recycling, Destruction, Transhipment and Feedstock Use of Ozone-Depleting Substances

AGENCY: Environmental Protection Agency (EPA).

ACTION: Notice.

SUMMARY: In compliance with the Paperwork Reduction Act (44 U.S.C. 3501 et seq.), this document announces that EPA is planning to submit the following proposed and/or continuing Information Collection Request (ICR) to the Office of Management and Budget (OMB):

Recordkeeping and Periodic Reporting of the Production Import, Export, Recycling, Destruction, Transhipment and Feedstock Use of Ozone-Depleting Substances ICR #1432.20, OMB Control No. 2060-0170, Expiration Date 9/28/01. Before submitting the ICR to OMB for review and approval, EPA is soliciting comments on specific aspects of the proposed information collection as described below.

DATES: Comments must be submitted on or before January 2, 2002.

ADDRESSES: Copies of the material supporting this ICR renewal notice are available free of charge from The Stratospheric Ozone Protection Hotline at 1-800-269-1996 between the hours of 10 am and 4 pm Eastern Standard Time.

FOR FURTHER INFORMATION CONTACT: Suzanne Bratis, Telephone: (202) 564-3515, Fax: (202) 564-2155, E-mail: Bratis.Suzanne@epa.gov.

SUPPLEMENTARY INFORMATION: Affected entities: Entities potentially affected by this action are those which produce, use feedstocks, import, export, and/or destroy the ozone-depleting substance, methyl bromide.

Title: Recordkeeping and Periodic Reporting of the Production Import, Export, Recycling, Destruction, Transhipment and Feedstock Use of Ozone-Depleting Substances (OMB Control No. 2060-0170; ICR #1432.20).

Abstract: This action revises reporting requirements so companies may produce and import for special exempted uses of methyl bromide for quarantine and preshipment applications during the interim period when production and consumption is capped at 50% of the 1991 baseline level. In order to monitor each company's production, import, export, destruction, and transformation, the reporting system continues to require information to check industry compliance with the stratospheric ozone protection regulations. Compliance during the reduction steps for methyl bromide mean that companies can produce and import 50% of 1991 baseline levels, except for the specific exemption created by this action. The information required satisfies statutory mandates for reporting and monitoring under section 603 of Title VI of CAAA and will be used to generate reports to Congress as mandated under section 603(d) of Title VI.

An agency may not conduct or sponsor, and a person is not required to respond to, a collection of information unless it displays a currently valid OMB control number. The OMB control numbers for EPA's regulations are listed in 40 CFR part 9 and 48 CFR Chapter 15. Give enough background information so someone could comment on points (i)-(iv) below.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The burden hours shown below represent the hours for the information collection request (ICR). The ICR provides a detailed explanation of this estimate, which is only briefly summarized in this notice. The annual public burden for collection of information associated with the reporting is estimated to average 865 hours. This estimate accounts for all responses provided by all effected entities per year.

The following is a summary of the estimates taken from the ICR:

Estimated total number of potential respondents: 536.

Frequency of response: Quarterly.

Estimated total/average number of responses for each respondent: 1-10.

Estimated total annual burden hours: 865.

Estimated O&M costs: $141.87.

Estimated total annual burden costs: $52,275.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: October 29, 2001.
Paul Stolpman,
Director, Office of Atmospheric Programs.

[FR Doc. 01-27590 Filed 11-1-01; 8:45 am]

BILLING CODE 6560-50-P